DEPARTMENT OF COMMERCE

Bureau of the Census

15 CFR Part 30

[Docket Number: 200810-0213]

RIN 0607-AA58

Foreign Trade Regulations (FTR): Request for Public Comments on the Overall Impact of the Removal of Electronic Export Information (EEI) Filing Requirements for Shipments Between the United States and Puerto Rico and the U.S. Virgin Islands

AGENCY: Bureau of the Census, Commerce Department.

ACTION: Advance notice of proposed rulemaking.

SUMMARY: The Bureau of the Census (Census Bureau) is seeking public comments on its consideration to remove the Electronic Export Information (EEI) filing requirement for shipments between the United States and Puerto Rico and the U.S. Virgin Islands. For many years, the Census Bureau has received requests, from both the government of Puerto Rico and members of the international trade community, to eliminate the requirement to file EEI for shipments between the United States and Puerto Rico in the Automated Export System. One of the reasons for requesting removal of the filing requirement is that it seems to treat Puerto Rico like a foreign country, when in fact Puerto Rico is a U.S. territory and part of the U.S. customs area. Arguments have also been made that the requirement imposes a burden on what should be treated as interstate commerce, discourages manufacturers in the 50 states to ship to Puerto Rico, and impedes economic development on the island. However, removal of the filing requirement could impact the quality and availability of key federal statistics. The Census Bureau is requesting information to assess potential impacts of a regulatory change in the filing requirements and to identify stakeholder priorities for data quality and availability.

DATES: Written comments must be received on or before November 16, 2020.

ADDRESSES: You may submit comments by any of the following methods:

• Federal eRulemaking Portal: http://www.regulations.gov. The identification number for this rulemaking is identified by RIN number 0607-AA58; or

• By email directly to gtmd.ftrnotices@census.gov. Include RIN number 0607-AA58 in the subject line.

All comments received are part of the public record. No comments will be posted to http://www.regulations.gov for public viewing until after the comment period has closed. Comments will generally be posted without change. All Personally Identifiable Information (for example, name and address) voluntarily submitted by the commenter may be publicly accessible. Do not submit confidential business information or otherwise sensitive or protected information.

FOR FURTHER INFORMATION CONTACT: Lisa E. Donaldson, Division Chief, Economic Management Division, Census Bureau, 4600 Silver Hill Road, Room 6K064, Washington, DC 20233-6010, by phone (301) 763-7296, by fax (301) 763-8835, or by email lisa.e.donaldson@census.gov.

SUPPLEMENTARY INFORMATION:

Background

The Census Bureau is responsible for collecting, compiling, and publishing export trade statistics for the United States under the provisions of Title 13, United States Code (U.S.C.), Chapter 9, Section 301. For these statistics, the Census Bureau uses data from the Electronic Export Information (EEI) filings in the Automated Export System. Trade between the United States and its territories is considered domestic and therefore statistics on such trade are not tabulated as a part of the Census Bureau foreign trade statistics. Collecting and compiling trade statistics between the United States, Puerto Rico, and other territories is, however, part of the Census Bureau's monthly processing of EEI. Ultimately, these statistics are published in the FT-895 report, “U.S. Trade with Puerto Rico and U.S. Possessions.” This annual report presents total quantity and value of commodities shipped between the United States, Puerto Rico, and U.S. possessions, including the U.S. Virgin Islands.

Data on trade between the United States and its territories is used by other government agencies and private organizations. For example, the Bureau of Economic Analysis (BEA), within the U.S. Department of Commerce, uses the data to compile the U.S. Gross Domestic Product (GDP), one of the most anticipated economic indicators and the primary measure of the nation's economy. The BEA also uses the data in its initiative to estimate Puerto Rico GDP statistics, which are anticipated in 2020. Given the magnitude of Puerto Rico trade with states, estimates of Puerto Rico GDP would be significantly compromised without the trade data from the filings. The Puerto Rico Planning Board, tasked with overseeing and promoting development in Puerto Rico, uses the trade statistics to produce statistical reports for the Puerto Rican government and businesses to make sound policy and business decisions, respectively.

Although eliminating the mandatory requirement to file EEI for shipments between the United States and Puerto Rico would remove an additional step in the shipping process, there would be other implications associated with this change. For example, the loss of data involving petroleum trade between the United States and Puerto Rico is a concern for the Department of Energy. There is currently no other source of information or method for tracking trade flows of oil and other energy-related commodities between the United States and Puerto Rico. The U.S. statistical system does not measure state-to-state imports and exports, only trade between states and the rest of the world.

There is no alternative data source to collect this information because Puerto Rico is not included in many other Census Bureau economic surveys. The Census Bureau is exploring options to include Puerto Rico in existing surveys to mitigate the significant loss of information about the economy of Puerto Rico that would result from eliminating the filing requirement. However, using other existing surveys to collect data on the economy of Puerto Rico would not result in the same data set that is currently available.

Through this notice, the Census Bureau is seeking public comments to assess the overall impact that the removal of the filing requirement for shipments between the United States and Puerto Rico would have on the availability and quality of statistical data, as well as on trade. The Census Bureau also welcomes comments on the potential impact of a similar filing requirement removal for shipments between the United States and the U.S. Virgin Islands.

Request for Comments

The Census Bureau is seeking public comments in order to assess the possible impact on statistics, data users, and businesses of removal of the filing requirement, and to identify any other possible impacts. Considering the known positive and negative impacts of removing the filing requirement, below are questions to consider when providing feedback to this proposed rule. Any pertinent feedback not captured by these questions is also welcome.

1. What Census Bureau statistical data on shipments between the 50 states and Puerto Rico (e.g., the FT-895 U.S. Trade with Puerto Rico and U.S. Possessions publications and digital datasets) are useful and how are they useful?

2. What information in the Census Bureau's statistical data on shipments between the 50 states and Puerto Rico is most relevant? What characteristics of data on trade for Puerto Rico are most relevant (e.g., consistency and comparability, timeliness, monthly publication)?

3. The Congressional Task Force on Economic Growth in Puerto Rico requested an assessment of whether alternative datasets could be used, with or without modification, to achieve the same statistical objective of the current reporting requirement for Puerto Rico, while imposing a lesser burden on businesses. Are there additional or alternative datasets that you believe could be used for this assessment?

4. If the EEI reporting requirement were eliminated and replaced by an alternative data collection intended to reduce burden, which information should be considered essential for inclusion in that alternative collection?

5. Shipments from the 50 states to the U.S. Virgin Islands have a similar filing requirement that enables the Census Bureau to produce trade statistics for shipments from the 50 states to the U.S. Virgin Islands (also included in the FT-895). Do you have any feedback on these statistical products, the information provided in them, and possible alternative datasets that would achieve the same statistical objective as the current reporting requirement, if the reporting requirement for the U.S. Virgin Islands also was eliminated?

Steven D. Dillingham, Director, Bureau of the Census, approved the publication of this Notice in the Federal Register.

Dated: September 4, 2020.
Sheleen Dumas,
Department PRA Clearance Officer, Office of the Chief Information Officer, Commerce Department.

[FR Doc. 2020-19986 Filed 9-16-20; 8:45 am]

BILLING CODE 3510-07-P